DEPARTMENT OF JUSTICE

Notice of Lodging of Consent Decree Under the Clean Air Act and the Comprehensive Environmental Response, Compensation, and Liability Act

Under 28 CFR 50.7, notice is hereby given that on July 25, 2001, a proposed Consent Decree in United States v. Powell Duffryn Terminals, Inc., Civil Action No. CV401-173 was lodged with the United States District Court for the Southern District of Georgia. On the same day, the United States filed a Complaint against Powell Duffryn Terminals, Inc. (“PDTI”) for alleged violations of Section 112(r)(1) of the Clean Air Act, 42 U.S.C. 7412(r)(1) (“CAA”), and for recovery of costs pursuant to section 107(a) of the Comprehensive Environmental Response, Compensation, and Liability Act, 42 U.S.C. 9607(a), (“CERCLA”) relating to a fire and explosion at PDTI's tank farm facility in Savannah, Georgia. The Complaint alleges that Powell Duffryn violated its obligations under the General Duty Clause of the CAA. Under the Consent Decree, PDTI will pay $1.8 million in past response costs under CERCLA, and its parent company, Powell-Duffryn Ltd., will provide $320,000 for the purchase of emergency response equipment for the Savannah Fire and Emergency Services Department.

The Department of Justice will receive for a period of thirty (30) days from the date of this publication comments relating to the Consent Decree. Comments should be addressed to the Assistant Attorney General of the Environment and Natural Resources Division, Department of Justice, Washington, DC 20530, and should refer to United States v. Powell Duffryn Terminals, Inc., D.J. Ref. DOJ #90-5-2-1-2172/1.

The consent decree may be examined at the Office of the United States Attorney, Southern District of Georgia, 100 Bull Street, Savannah, GA 31401, at U.S. EPA Region 4, 61 Forsyth Street, SW., Atlanta, GA 30303. A copy of the proposed Consent Decree may be obtained by mail from the Department of Justice Consent Decree Library, P.O. Box 7611, Washington, DC 20044. In requesting a copy please refer to the referenced case and enclose a check in the amount of $5.25 (25 cents per page reproduction costs), payable to the Consent Decree Library.

Ellen Mahan,
Assistant Section Chief, Environmental Enforcement Section, Environment and Natural Resources Division.

[FR Doc. 01-20642 Filed 8-15-01; 8:45 am]

BILLING CODE 4410-15-M